DEPARTMENT OF DEFENSE

Office of the Secretary

Request for Input for 2015 Department of Defense (DoD) Key State Issues Impacting Service Members and Their Families

AGENCY: Department of Defense.

ACTION: Notice.

SUMMARY: This notice provides an opportunity for the public to submit issues that have an impact on Service members and their families where state governments are the primary agents for making positive change. Each year, DoD selects issues for states to consider that represent barriers resulting from the transience and uncertainty of military life. For example, DoD has asked states to consider remedies to improve school transition for children in active duty military families to overcome problems with records transfer, class and course placement, qualifying for extra-curricular activities, and fulfilling graduation requirements.

DATES: Inputs must be received by April 14, 2014.

ADDRESSES: Electronic responses can be sent to: marcus.j.beauregard.civ@mail.mil. Send correspondence to: Office of the Deputy Assistant Secretary of Defense, Military Community and Family Policy, 4000 Defense Pentagon, Washington, DC 20301-4000.

FOR FURTHER INFORMATION CONTACT: Marcus Beauregard, (571) 372-5357.

SUPPLEMENTARY INFORMATION: Inputs should include the following information:

A. Issue title.

B. Description of the issue to include a description of the policy or practice, the impact and who is impacted by this issue.

C. Description of the potential solution to this issue, to include whether the issue can be corrected through a change in state procedures, state regulations or state statute.

D. Your contact information so that we can follow-up if we need any clarifications.

Dated: February 25, 2014.
Aaron Siegel,
Alternate OSD Federal Register Liaison Officer, Department of Defense.

[FR Doc. 2014-04416 Filed 2-27-14; 8:45 am]

BILLING CODE 5001-06-P